DEPARTMENT OF HEALTH AND HUMAN SERVICES

National Institutes of Health

National Institute on Aging; Amended Notice of Meeting

Notice is hereby given of a change in the meeting of the National Institute on Aging Special Emphasis Panel, October 11, 2018, 12:00 p.m. to October 11, 2018, 04:00 p.m., National Institute on Aging, Gateway Building, 7201 Wisconsin Avenue, Suite 2W200, Bethesda, MD, 20892 which was published in the Federal Register on August 23, 2018, 83 FR 42672.

The meeting notice is amended to change the date of the meeting from October 11, 2018 to October 26, 2018. The meeting is closed to the public.

Dated: October 11, 2018.
Melanie J. Pantoja,
Program Analyst, Office of Federal Advisory Committee Policy.

[FR Doc. 2018-22619 Filed 10-16-18; 8:45 am]

BILLING CODE 4140-01-P